CONSUMER PRODUCT SAFETY COMMISSION

16 CFR Parts 1238

[Docket No. CPSC-2018-0015]

Notice of Availability and Request for Comment: Revision to the Voluntary Standard for Stationary Activity Centers

AGENCY: Consumer Product Safety Commission.

ACTION: Notice of availability and request for comment.

SUMMARY: The U.S. Consumer Product Safety Commission's (Commission or CPSC) mandatory rule, Safety Standard for Stationary Activity Centers, incorporates by reference ASTM F2012-18ε1, Standard Consumer Safety Performance Specification for Stationary Activity Centers. ASTM notified the Commission that it has revised this incorporated voluntary standard. CPSC seeks comment on whether the revision improves the safety of stationary activity centers.

DATES: Comments must be received by February 4, 2025.

ADDRESSES: You can submit comments, identified by Docket No. CPSC-2018-0015, by any of the following methods:

Electronic Submissions: Submit electronic comments to the Federal eRulemaking Portal at: https://www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments by using the Federal eRulemaking Portal. You may, however, submit comments by mail, hand delivery, or courier to: Office of the Secretary, Consumer Product Safety Commission, 4330 East-West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit to this website: confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2018-0015, into the “Search” box, and follow the prompts.

FOR FURTHER INFORMATION CONTACT: Bradley Gordon, Project Manager, Division of Mechanical and Combustion Engineering, U.S. Consumer Product Safety Commission, 5 Research Place, Rockville, MD 20850; telephone: (301) 987-2099; email: bgordon@cpsc.gov.

SUPPLEMENTARY INFORMATION: Section 104(b) of the Consumer Product Safety Improvement Act of 2008 (CPSIA) requires the Commission to adopt mandatory standards for durable infant or toddler products. 15 U.S.C. 2056a(b)(1). Mandatory standards must be “substantially the same as” voluntary standards, or they may be “more stringent” than the applicable voluntary standards, if the Commission determines that more stringent requirements would further reduce the risk of injury associated with the products. Id. Mandatory standards may be based, in whole or in part, on a voluntary standard.

Section 104(b)(4)(B) of the CPSIA specifies the process for when a voluntary standards organization revises a standard that the Commission incorporated by reference under section 104(b)(1). First, the voluntary standards organization must notify the Commission of the revision. Once the Commission receives this notification, the Commission may reject or accept the revised standard. To reject a revised standard, the Commission must notify the voluntary standards organization within 90 days of receiving the notice of revision that the Commission has determined that the revised standard does not improve the safety of the consumer product and that CPSC is retaining the existing standard. If the Commission does not take this action, the revised voluntary standard will be considered a consumer product safety standard issued under section 9 of the Consumer Product Safety Act (CPSA) (15 U.S.C. 2058), effective 180 days after the Commission received notification of the revision (or a later date specified by the Commission in the Federal Register). 15 U.S.C. 2056a(b)(4)(B).

Under this authority, the Commission issued a mandatory safety rule that incorporates by reference ASTM F2012-18ε1, Safety Standard for Stationary Activity Centers, codified at 16 CFR part 1238 (84 FR 28205, June. 18, 2019). The ASTM standard incorporated by CPSC defines a stationary activity center as “a freestanding product intended to remain stationary that enables a sitting or standing occupant whose torso is completely surrounded by the product to walk, rock, play, spin or bounce, or all of these, within a limited range of motion.” 16 CFR 1238.2. This mandatory standard includes performance requirements and test methods, as well as requirements for warning labels and instructions, to address hazards to children.

On January 6, 2025, ASTM notified the Commission that it had approved and published another revised version of the voluntary standard, ASTM F2012-2024. CPSC is assessing the revised voluntary standard to determine, consistent with section 104(b)(4)(B) of the CPSIA, its effect on the safety of stationary activity centers subject to 16 CFR part 1238. The Commission invites public comment to inform CPSC staff's assessment and subsequent Commission consideration of the revisions in ASTM F2012-2024.¹

¹ On January 10, 2025, the Commission voted (4-1) to publish this notice.

The currently incorporated voluntary standard (ASTM F2012-18ε¹) and the revised voluntary standard (ASTM F2012-24) are available for review in several ways. A read-only copy of the existing, incorporated standard is available for viewing, at no cost, on the ASTM website at: https://www.astm.org/READINGLIBRARY/. A read-only copy of the revised standard (ASTM F2012-24), including red-lined versions that identify the changes from the 2018 versions to the 2024 version, is available, at no cost, on ASTM's website at: https://www.astm.org/CPSC.htm. Interested parties can also download copies of the standards by purchasing them from ASTM International, 100 Barr Harbor Drive, P.O. Box C700, West Conshohocken, PA 19428-2959; phone: 610-832-9585; https://www.astm.org. Alternatively, interested parties can schedule an appointment to inspect copies of the standards at CPSC's Office of the Secretary, U.S. Consumer Product Safety Commission, 4330 East-West Highway, Bethesda, MD 20814, telephone: 301-504-7479.

Comments must be received by February 4, 2025. Because of the short statutory time frame Congress established for the Commission to consider revised voluntary standards under section 104(b)(4) of the CPSIA, CPSC will not consider comments received after this date.

Alberta E. Mills,
Secretary, Consumer Product Safety Commission.

[FR Doc. 2025-01277 Filed 1-17-25; 8:45 am]

BILLING CODE 6355-01-P